COMMISSION ON CIVIL RIGHTS

Sunshine Act Notice

AGENCY: United States Commission on Civil Rights.

ACTION: Notice of meeting.

Date and Time: Friday, December 17, 2010; 9:30 a.m. EST.

Place: 624 Ninth Street, NW., Room 540, Washington, DC 20425.

Meeting Agenda

This meeting is open to the public.

I. Approval of Agenda.

II. Welcome New Commissioners.

III. Management and Operations:

• Review of transition, order of succession, continuity of operations.

• Review of 2011 meeting calendar.

• Staff Director's report.

IV. Program Planning: Update and discussion of projects.

• Cy Pres.

• Disparate Impact in School Discipline Policies.

• Gender and the Wage Gap.

• Title IX—Sex Discrimination in Liberal Arts College Admissions.

• Eminent Domain Project.

• NBPP.

V. State Advisory Committee Issues:

• Update on status of North Dakota, Illinois and Minnesota SACs.

• Update on Vermont SAC.

VI. Approval of Minutes of December 3, 2010 Meeting.

VII. Announcements.

VIII. Adjourn.

Contact Person for Further Information: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: December 7, 2010.
David Blackwood,
General Counsel.

[FR Doc. 2010-31093 Filed 12-7-10; 4:15 pm]

BILLING CODE 6335-01-P